DEPARTMENT OF THE INTERIOR

Bureau of Indian Affairs

Amendment to Stockbridge-Munsee Community Band of Mohican Indians Liquor Control Ordinance

AGENCY: Bureau of Indian Affairs, Interior.

ACTION: Notice.

SUMMARY: This Notice is published in accordance with authority delegated by the Secretary of the Interior to the Assistant Secretary—Indian Affairs by 209 DM 8, and in accordance with the Act of August 15, 1953, 67 Stat. 586, 18 U.S.C. 1161, as interpreted by the Supreme Court in Rice v. Rehner, 463 U.S. 713 (1983). I certify that Resolution No. 058-99 and Resolution No. 074-99 of the Stockbridge-Munsee Community Band of Mohican Indians were duly adopted by the Stockbridge-Munsee Tribal Council on September 7, 1999 and November 2, 1999, respectively. These Amendments to the Stockbridge-Munsee Liquor Control Ordinance, published on December 11, 1992 (57 FR 58938) with an amendment on May 13, 1998 (63 FR 26621), regulate the issuance of licenses for the sale of alcohol beverages within buildings used for casinos, entertainment facilities, convenience stores, special outdoor events and restaurant-bar operations, including the sale of beer for consumption on the golf course owned and regulated by the Stockbridge-Munsee Community.

DATES: This Amendment is effective as of June 1, 2000.

FOR FURTHER INFORMATION CONTACT: Jim D. James, Office of Tribal Services, 1849 C Street NW, MS 4660-MIB, Washington, DC 20240-4001; telephone (202) 208-4400.

SUPPLEMENTARY INFORMATION: The amendment to the Stockbridge-Munsee Liquor Control Ordinance shall read as follows:

Section 31.1 (A) “Licenses for the sale of alcohol beverages may be issued for sale of such beverages for casinos, entertainment facilities, convenience stores and restaurant-bar operations owned and regulated by the Stockbridge-Munsee Community. This license includes sales for special outdoor events and the sale of beer for consumption on the golf course.”

Dated: May 22, 2000.
Kevin Gover,
Assistant Secretary—Indian Affairs.

[FR Doc. 00-13611 Filed 5-31-00; 8:45 am]

BILLING CODE 4310-02-P